DEPARTMENT OF LABOR

Employment And Training Administration

[TA-W-53,648]

International Business Machines Corporation, Tulsa, Oklahoma; Notice of Negative Determination Regarding Application for Reconsideration

By application of February 6, 2004, a petitioner requested administrative reconsideration of the Department's negative determination regarding eligibility for workers and former workers of the subject firm to apply for Trade Adjustment Assistance (TAA). The denial notice applicable to workers of International Business Machines Corporation, Tulsa, Oklahoma was signed on December 2, 2003, and published in the Federal Register on January 16, 2004 (69 FR 2622).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at International Business Machines Corporation, Tulsa, Oklahoma, engaged in accounting services. The petition was denied because the workers' firm does not produce an article within the meaning of section 222 of the Trade Act of 1974. Indeed, IBM does not produce an article at the Tulsa facility.

The petitioner refers to the British Petroleum Accounting Center operated by IBM which was certified eligible for TAA in 1999. The petitioner further states that layoffs at the subject firm can be attributed to the decision of British Petroleum to shift its oil production abroad, consequently, the petitioning workers should be eligible for trade adjustment assistance.

A company official was contacted in regard to these allegations. The official stated that there is no affiliation between the subject facility and British Petroleum. It was also revealed that International Business Machines Corporation, Tulsa, Oklahoma provides accounting services to British Petroleum at many locations in the United States and abroad out of its own facility in Tulsa, Oklahoma.

The fact that service workers have customers or clients that may be eligible for trade adjustment assistance does not automatically make the service workers eligible for TAA. Before service workers can be considered eligible for TAA, they must be in direct support of an affiliated facility currently certified for TAA or employed on a contractual basis at a location currently certified for TAA. This is not the case for the workers at International Business Machines Corporation, Tulsa, Oklahoma.

The petitioner further alleges that “the center in Tulsa, OK has previously been covered under the TRA program,” thus petitioning workers of the subject firm should also be eligible for TAA.

The same workers have been providing the same accounting services at the same Tulsa location for a number of years. However, the identity of their employer has changed twice over the pertinent period. Thus, the Department's records indicate workers, including accountants then working at the Tulsa facility, at AMOCO Exploration and Production, and AMOCO Shared Services, operating in the state of Oklahoma, were certified eligible to apply for adjustment assistance on February 19, 1999 (TA-W-36,309N). That certification was amended on March 14, 1999, to reflect new ownership and a name change to BP/AMOCO, AMOCO Exploration and Production, AMOCO Shared Services, A/K/A AMOCO Production Company, Inc., operating in the state of Oklahoma. Workers certified in that instance were determined to be “engaged in activities related to exploration and production of crude oil and natural gas.” That certification expired February 19, 2001. Thus, there is no current certification of eligibility for workers at the Tulsa facility. The previous certification has no bearing on the determination of eligibility at this time.

Department records show no previous certifications for the Tulsa facility on the part of the current owner of the Tulsa facility, International Business Machines Corporation, Tulsa, Oklahoma.

The petitioner finally states that International Business Machines Corporation, Tulsa, Oklahoma has moved a significant number of jobs to India.

Accounting services do not constitute production according to the eligibility requirements for trade adjustment assistance. Thus, the alleged shift of jobs to India is irrelevant to this investigation.

Only in very limited instances are service workers certified for TAA. The worker separations must be caused by a reduced demand for their services from a parent or controlling firm or subdivision whose workers produce an article and who are currently under certification for TAA. Unlike the workers at the Tulsa, Oklahoma location employed under the AMOCO corporate umbrella, workers at International Business Machines, Tulsa, Oklahoma do not perform services for a parent or controlling firm or subdivision currently under certification for TAA.

Conclusion

After review of the application and investigative findings, I conclude that there has been no error or misinterpretation of the law or of the facts which would justify reconsideration of the Department of Labor's prior decision. Accordingly, the application is denied.

Signed in Washington, DC, this 31st day of March, 2004.
Richard Church,
Certifying Officer, Division of Trade Adjustment Assistance.

[FR Doc. E4-862 Filed 4-15-04; 8:45 am]

BILLING CODE 4510-13-P